DEPARTMENT OF JUSTICE

Office of Justice Programs

[OMB Number 1121-0260]

Agency Information Collection Activities: Proposed Collection; Comments Requested

ACTION: 60-day notice of information collection under review: Extension of a currently approved collection: Police Public Contact Survey.

The Department of Justice (DOJ), Office of Justice Programs, Bureau of Justice Statistics will be submitting the following information collection request to the Office of Management and Budget (OMB) for review and approval in accordance with the Paperwork Reduction Act of 1995. The proposed information collection is published to obtain comments from the public and affected agencies. Comments are encouraged and will be accepted for “sixty days” until December 28, 2007. This process is conducted in accordance with 5 CFR 1320.10.

If you have comments especially on the estimated public burden or associated response time, suggestions, or need a copy of the proposed information collection instrument with instructions or additional information, please contact Matthew Durose, Bureau of Justice Statistics, 810 Seventh Street, NW., Washington DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Police Public Contact Survey.

(3) Agency form number, if any, and the applicable component of the Department of Justice sponsoring the collection: Not applicable. Survey will be conducted in computer-assisted personal interviewing (CAPI) environment. Bureau of Justice Statistics, Department of Justice.

(4) Affected public who will be asked or required to respond, as well as a brief abstract: Primary: Eligible respondents to the survey must be age 16 or older. The Police Public Contact Survey fulfills the mandate set forth by the Violent Crime Control and Law Enforcement Act of 1994 to collect, evaluate, and publish data on the use of excessive force by law enforcement personnel. The survey will be conducted as a supplement to the National Crime Victimization Survey in all sample households for a six (6) month period. Other: None.

(5) An estimate of the total number of respondents and the amount of time estimated for an average respondent to respond: A total of approximately 74,317 persons will be eligible for the PPCS questions during July through December 2008. Of the 74,317 persons, we expect approximately 80 percent or 59,231 persons will complete a PPCS interview. Of those persons interviewed for the PPCS, we estimate approximately 81.5 percent or 48,272 persons will complete only the first two (contact screener questions) survey questions. The estimated time to read the introductory statement and administer the first two contact screener questions to the respondents is approximately .025 hours (1.5 minutes) per person. Furthermore, we estimate that the remaining 18.5 percent of the interviewed persons or 10,958 persons will report contact with the police. The estimated time required to ask the detailed questions regarding the nature of the contact is estimated to take an average of .167 hours (10 minutes). Respondents will be asked to respond to this survey only once during the six month period.

(6) An estimate of the total public burden (in hours) associated with the collection: The total respondent burden is approximately 3,037 hours.

If Additional Information is Required Contact: Lynn Bryant, Department Clearance Officer, United States Department of Justice, Justice Management Division, Policy and Planning Staff, Patrick Henry Building, Suite 1600, 601 D Street, NW., Washington, DC 20530.

Dated: October 23, 2007.
Lynn Bryant,
Department Clearance Officer, PRA, Department of Justice.

[FR Doc. E7-21258 Filed 10-26-07; 8:45 am]

BILLING CODE 4410-18-P